DEPARTMENT OF HEALTH AND HUMAN SERVICES

Public Meeting of the President's Council on Bioethics on June 28-29, 2007

AGENCY: The President's Council on Bioethics, HHS.

ACTION: Notice.

SUMMARY: The President's Council on Bioethics (Edmund D. Pellegrino, MD, Chairman) will hold its twenty-ninth meeting, at which it will (1) take up the topic of the professions and society with a focus on the healing professions; (2) hear and discuss presentations on the topic of “Health care—who is responsible? The individual, society or both?”; and (3) hear and discuss presentations on nanotechnology and the ethics of applications of nanotechnology in health care and medicine. Subjects discussed at past Council meetings (although not on the agenda for the June 2007 meeting) include: Therapeutic and reproductive cloning, assisted reproduction, reproductive genetics, neuroscience, aging retardation, organ transplantation, newborn screening, human dignity, personalized medicine, criteria for the determination of death, and lifespan-extension. Publications issued by the Council to date include: Human Cloning and Human Dignity: An Ethical Inquiry (July 2002); Beyond Therapy: Biotechnology and the Pursuit of Happiness (October 2003); Being Human: Readings from the President's Council on Bioethics (December 2003); Monitoring Stem Cell Research (January 2004), Reproduction and Responsibility: The Regulation of New Biotechnologies (March 2004), Alternative Sources of Human Pluripotent Stem Cells: A White Paper (May 2005), and Taking Care: Ethical Caregiving in Our Aging Society (September 2005).

DATES: The meeting will take place Thursday, June 28, 2007, from 9 a.m. to 5:15 p.m., ET; and Friday, June 29, 2007, from 8:30 a.m. to 12 noon, ET.

ADDRESSES: The Hay-Adams Hotel, Sixteenth and H Streets, NW., Washington, DC 20006. Phone 202-638-6600.

Agenda: The meeting agenda will be posted at http://www.bioethics.gov.

Public Comments: The Council encourages public input, either in person or in writing. At this meeting, interested members of the public may address the Council, beginning at 11:45 a.m., on Friday, June 29. Comments are limited to no more than five minutes per speaker or organization. As a courtesy, please inform Ms. Diane M. Gianelli, Director of Communications, in advance of your intention to make a public statement, and give your name and affiliation. To submit a written statement, mail or e-mail it to Ms. Gianelli at one of the addresses given below.

FOR FURTHER INFORMATION CONTACT: Ms. Diane M. Gianelli, Director of Communications, The President's Council on Bioethics, 1425 New York Avenue, Suite C100, Washington, DC 20005. Telephone: 202/296-4669. E-mail: info@bioethics.gov. Web site: http://www.bioethics.gov.

Dated: May 17, 2007.
F. Daniel Davis,
Executive Director, The President's Council on Bioethics.

[FR Doc. E7-10092 Filed 5-24-07; 8:45 am]

BILLING CODE 4154-07-P